DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before January 7, 2008. Address written comments to Statutory Import Programs Staff, Room 2104, U.S. Department of Commerce, Washington, D.C. 20230. Applications may be examined between 8:30 A.M. and 5:00 P.M. at the U.S. Department of Commerce in Room 2104.

Docket Number: 07-068. Applicant: University of Utah, 201 S. President's Circle, Salt Lake City, UT 84112. Instrument: Electron Microscope, Model Nova NanoSEM 430. Manufacturer: FEI Company, Czech Republic. Intended Use: The instrument is intended to be used for the imaging of nanoparticles as well as chemical characterization of a wide variety of materials. The instrument will also be used to measure the size and chemical composition of nanoparticles and nanostructures and to create nanostructures using electron beam lithography. The objectives of the experiments will be to characterize the size and shapes of nanoparticles, nantubes and nanowires and determine the chemical composition of clays and other mineralogical samples. Application accepted by Commissioner of Customs: November 13, 2007.

Docket Number: 07-069. Applicant: The Children's Hospital, 1056 E. 19th Ave., Denver, CO 80218. Instrument: Electron Microscope, Model H-7650. Manufacturer: Hitachi High-Technologies Corporation, Japan. Intended Use: The instrument will be used in the anatomical pathology laboratory to evaluate various human tissues, aiding in diagnostic interpretations. Application accepted by Commissioner of Customs: November 6, 2007.

Dated: December 7, 2007.
Faye Robinson,
Director, Statutory Import Programs Staff.

[FR Doc. E7-24277 Filed 12-14-07; 8:45 am]

BILLING CODE 3510-DS-S